DEPARTMENT OF THE INTERIOR

National Park Service, DOI

Notice of Availability of Recreational Off-Road Vehicle Management Plan and Supplemental Final Environmental Impact Statement, Big Cypress National Preserve, FL

SUMMARY: This Recreational Off-Road Vehicle Management Plan/Supplement to the Final Environmental Impact Statement (RORVMP/SFEIS) addresses management of recreational off-road vehicles (ORVs) in the original 582,000 acres of the Big Cypress National Preserve and identifies and assesses potential impacts of alternative options for the management of ORVs in the preserve. The RORVMP/SFEIS describes management concerns which include the need to protect and restore natural resources while providing recreational ORV access to the preserve.

DATES: The RORVMP/SFEIS will be available August 11, 2000. No sooner than 30 days from the appearance of the Environmental Protection Agency's notice in the Federal Register, a Record of Decision will be signed that will document the National Park Service decision regarding the RORVMP for the Big Cypress National Preserve, and identify the selected action from the alternatives presented in the SFEIS.

ADDRESSES: The RORVMP/SFEIS may be viewed on the Internet at www.nps.gov/BICY. A limited number of copies of the RORVMP/SFEIS are available from the Superintendent at the following address: Superintendent, Big Cypress National Preserve, HCR 61, Box 110, Ochopee, Florida, 34141, Telephone: (941) 695-2000.

FOR FURTHER INFORMATION CONTACT: For additional information contact the Superintendent.

SUPPLEMENTARY INFORMATION: It is the practice of the National Park Service to make comments, including names and home addresses of respondents, available for public review during regular business hours. Individual respondents may request that we withhold their home address from the rulemaking record, which we will honor to the extent allowable by law. There may also be circumstances in which we would withhold from the rulemaking record a respondent's identity, as allowable by law. If you wish for us to withhold your name and/or address, you must state this prominently at the beginning of your comment. However, we will not consider anonymous comments. We will make all submissions from organizations or businesses, and from individuals identifying themselves as representatives or officials of organizations or businesses, available for public inspection in their entirety.

The RORVMP/SFEIS is being mailed to agencies, organizations and individuals on the NPS mailing list and copies of the RORVMP/SFEIS may also be read at the following libraries:

Barron Public Library, P.O. Box 785, LaBelle, FL 33935, Telephone: (941) 675-0833

Glades County Public Library, P.O. Box 505, Moore Haven, FL 33471, Telephone: (941) 946-0744

Monroe County Public Library, 700 Fleming Street, Key West, FL 33040, Telephone: (305) 292-3595

Collier County Public Library, 850 Central Avenue, Naples, FL 34102, Telephone: (941) 261-8208

Miami-Dade County Library, 101 W. Flagler Street, Miami, FL 33130, Telephone: (305) 375-2665

Broward County Public Library, 100 South Andrews Avenue, Ft. Lauderdale, FL 33301, Telephone: (954) 357-7444

Palm Beach County Public Library, 3650 Summit Boulevard, West Palm Beach, FL 33046, Telephone: (561) 233-2600

Lee County Public Library, 2050 Lee Street, Ft. Myers, FL 33901, Telephone: (941) 479-4620

Authority: 16 U.S.C. 698f-1; 40 CFR 1506.6.

Dated: August 2, 2000.
W. Thomas Brown,
Regional Director, Southeast Region.

[FR Doc. 00-20520 Filed 8-11-00; 8:45 am]

BILLING CODE 4310-70-M